DEPARTMENT OF TRANSPORTATION

Federal Aviation Administration

Public Notice of Airport Improvement Program Property Release; Orcas Island Airport, Eastsound, Washington

AGENCY: Federal Aviation Administration (FAA), DOT.

ACTION: Notice of request to release Airport Improvement Program property.

SUMMARY: The FAA is considering a request from the Port of Orcas, Washington to waive the Airport Improvement Program property requirements for approximately 1,120 square feet of airport property located at Orcas Island Airport, in Eastsound, Washington. The subject property is located in the east section of the airport. This release will allow the Port to sell 1,120 feet of Parcel 271142024000 to East Side Sewer District and construct a chain link fence for additional water treatment. There will be proceeds generated from the proposed release of this property for capital improvements at the airport. The Port will receive not less than fair market value for the property and the revenue generated from the sale will be used for airport purposes. It has been determined through study that the subject partial parcel will not be needed for aeronautical purposes.

DATES: Comments are due within 30 days of the date of the publication of this notice in the Federal Register. Emailed comments can be provided to Ms. Mandi M. Lesauis, Program Specialist, Seattle Airports District Office, mandi.lesauis@faa.gov.

FOR FURTHER INFORMATION CONTACT: Mandi M. Lesauis, Program Specialist, Seattle Airports District Office, mandi.lesauis@faa.gov, (206) 231-4140.

Authority: Title 49, U.S.C. Section 47153(c).

Issued in Des Moines, Washington, on November 9, 2021.
Warren D. Ferrell,
Acting Manager, Seattle Airports District Office.

[FR Doc. 2021-24861 Filed 11-22-21; 8:45 am]

BILLING CODE 4910-13-P